FEDERAL COMMUNICATIONS COMMISSION

[DA 01-2430]

Change in Filing Procedures

AGENCY: Federal Communications Commission.

ACTION: Notice.

SUMMARY: This document announces new procedures for all persons wishing to hand-deliver documents at the filing counter of the Federal Communications Commission's (the Commission) Secretary. The new procedures are due to precautionary measures.

DATES: The new procedures were effective on October 17, 2001.

ADDRESSES: Federal Communications Commission, 445 12th Street, SW., Washington, DC 20554.

FOR FURTHER INFORMATION CONTACT: Magalie Roman Salas, Secretary, FCC, (202) 418-0300.

SUPPLEMENTARY INFORMATION: This is a notice for all persons wishing to hand-deliver documents at the filing counter of the Commission's Secretary, located at 445 12th Street, SW., Washington, DC. As a precautionary measure, effective immediately and until further notice, the following procedures are in place:

• The staff at the Secretary's filing counter will not accept documents enclosed in envelopes.

• Any filer or messenger carrying such documents into the Commission's building will be asked to leave the building and dispose of the envelope in a receptacle that will be placed outside the building. Once this is done, the filer or messenger will be allowed to proceed to the filing counter.

• Originals and copies of each official filing must continue to be addressed to the Commission's Secretary and held together with rubber bands or fasteners. As usual, “stamp and return” copies will be provided as long as they clearly accompany each individual filing.

• Documents intended to be received by specific staff persons within Bureaus and Offices must be clearly labeled on the first page of the document or with a cover sheet indicating the destination. As appropriate, originals and copies must be held together with rubber bands or fasteners.

• Filings requesting confidential treatment under the Commission's rules must also be filed without envelopes. As long as the request for confidential treatment is clearly indicated on the first page of the filing, the staff at the filing counter will enclose the filing in a Commission envelope labeled “confidential” to signal that the filing contains material that is subject to a request for confidential treatment.

• The Office of the Secretary will work with specific Bureaus and Offices, as appropriate, to handle bulk filings in accordance with the precautionary measures described.

As the Commission continues to balance its efforts to be accessible to its customers with the need for heightened security measures, the Commission encourages its customers to make full use of the Commission's electronic filing systems to facilitate the filing of documents.

Federal Communications Commission.
Magalie Roman Salas,
Secretary.

[FR Doc. 01-26823 Filed 10-23-01; 8:45 am]

BILLING CODE 6712-01-P